DEPARTMENT OF THE TREASURY

Community Development Financial Institutions Fund

Proposed Data Collection; Comment Request

ACTION: Notice and request for comments.

SUMMARY: The U.S. Department of the Treasury, as part of its continuing effort to reduce paperwork and respondent burden, invites the general public and other federal agencies to take this opportunity to comment on proposed and/or continuing information collections, as required by the Paperwork Reduction Act of 1995, Public Law 104-13 (44 U.S.C. 3506(c)(2)(A)). Currently, the Community Development Financial Institutions Fund (CDFI Fund), Department of the Treasury, is soliciting comments concerning the Annual Assessment Evaluation. This report form will be used to collect vital financial performance data, internal control, and investment impact measurement related information for institutions participating in the CDFI Bond Guarantee Program, consistent with the program's requirements for Compliance Management and Monitoring (CMM) and Portfolio Management and Loan Monitoring (PMLM), and pursuant to 12 CFR part 1808 (Interim Rule). The process for data collection and reporting is expected to take place via electronic submission to the CDFI Fund. Hard copies will also be accepted. The annual assessment evaluation reporting guidance for the CDFI Bond Guarantee Program may be obtained from the CDFI Bond Guarantee Program page of the CDFI Fund's Web site at http://www.cdfifund.gov. Unless otherwise defined in this notice, the capitalized terms herein are as defined in the Interim Rule. Please note that this proposed requirement would only apply to Eligible CDFI's participating in the CDFI Bond Guarantee Program and to Qualified Issuers that have issued Bonds under the Program in Fiscal Year 2015 or later.

DATES: Written comments should be received on or before May 4, 2015 to be assured of consideration. These comments will be considered before the CDFI Fund submits a request for Office of Management and Budget (OMB) review of the data reporting forms described in this notice.

ADDRESSES: Direct all comments to Lisa Jones, CDFI Bond Guarantee Program Manager, at the Community Development Financial Institutions Fund, U.S. Department of the Treasury, 1500 Pennsylvania Avenue NW., Washington, DC 20020, by email to bgp@cdfi.treas.gov, or by facsimile to (202) 508-0083. Please note this is not a toll free number.

FOR FURTHER INFORMATION CONTACT: The Annual Assessment Evaluation may be obtained from the CDFI Bond Guarantee Program page of the CDFI Fund's Web site at http://www.cdfifund.gov/bond. Requests for additional information should be directed to Lisa Jones, CDFI Bond Guarantee Program Manager, at the Community Development Financial Institutions Fund, U.S. Department of the Treasury, 1500 Pennsylvania Avenue NW., Washington, DC 20020 or by email to bgp@cdfi.treas.gov.

SUPPLEMENTARY INFORMATION: Title: CDFI Bond Guarantee Program Reporting Forms.

OMB Number: 1559-0044.

Abstract: The purpose of the CDFI Bond Guarantee Program is to support CDFI lending by providing Guarantees for Bonds issued by Qualified Issuers as part of a Bond Issue for Eligible Community or Economic Development Purposes. The CDFI Bond Guarantee Program provides CDFIs with a new source of long-term capital and furthers the mission of the CDFI Fund to increase economic opportunity and promote community and economic development investments for underserved populations and in distressed communities in the United States. The CDFI Fund achieves its mission by promoting access to capital and local economic growth by investing in, supporting, and training CDFIs.

The CDFI Fund held two-day application workshops on June 10-11, 2014 in Washington, DC. During these workshops, representatives of the CDFI Bond Guarantee Program met with potential applicants regarding the FY 2013 Qualified Issuer and Guarantee Application requirements. Specifically, the workshops explored the financial structure of the program, including roles of the Qualified Issuer, Program Administrator, and Servicer; reporting requirements; and compliance-related activities. Although participants in these workshops expressed overall enthusiasm and support for conforming to the CDFI Fund's reporting process, they noted a lack of substantive data in this area and recommended that the CDFI Fund describe and specify its post-issuance information collection practices for the CDFI Bond Guarantee Program.

In compliance with OMB Circular A-129, the CDFI Bond Guarantee Program will collect all necessary information to manage the portfolio effectively and track progress towards policy goals. The proposed reporting form will add significantly to the Department of the Treasury's review and impact analysis on the use of Bond Proceeds in underserved communities and support the CDFI Fund in proactively managing portfolio risks and performance. Risk detection and mitigation are crucial activities for the long-term operation and viability of the CDFI Bond Guarantee Program. The Department of the Treasury's authority to collect this information and the specified data collection areas and parameters are consistent with the annual and periodic financial reporting requirements for the CDFI Bond Guarantee Program as defined in 12 CFR 1808.619.

The CDFI Fund currently utilizes its Community Investment Impact System (CIIS), which collects data from CDFIs that have received monetary awards from the CDFI Fund through several of its other programs. CDFI Program and Native American CDFI Assistance Program (NACA Program) awardees are required to report total portfolio and financial data for three years. However, there is no standardized data on the full universe of Certified CDFIs, especially unregulated loan funds that do not have award reporting history. Moreover, non-regulated Certified CDFIs frequently utilize disparate accounting methodologies and report certain data points, such as borrower defaults and delinquencies, in ways that are difficult to compare across organizations. Nonprofit Certified CDFIs are yet more difficult to compare due to the variety of reporting options available to nonprofit institutions under generally accepted accounting principles. This report, in addition to the previously proposed reports of the CDFI Bond Guarantee Program, addresses this challenge in standardized data collection and allows Certified CDFIs to: (i) Demonstrate the ability to deploy long-term debt successfully with reporting requirements similar to those required of regulated financial institutions; (ii) provide a mechanism for accurately assessing Certified CDFI credit risk; and (iii) provide capital markets with a record of accomplishment on which to base future lending and investment.

Current Actions: New Collection.

Type of Review: Regular Review.

Affected Public: Certified CDFIs and Qualified Issuers.

Estimated Number Certified CDFI Respondents: 10.

Estimated Annual Time per Certified CDFI Respondent: 25 hours.

Estimated Number of Qualified Issuer Respondents: 10.

Estimated Annual Time per Qualified Issuer Respondent: 50 hours.

Estimated Total Annual Burden Hours: 750 hours.

Requests for Comments: Comments submitted in response to this notice will be summarized and/or included in the request for Office of Management and Budget approval. All comments will become a matter of public record and may be published on the CDFI Fund Web site at http://www.cdfifund.gov. Comments are invited on: (a) Whether the collection of information is consistent with the stated background and proposed use necessary for the proper performance of the functions of the CDFI Fund; (b) the accuracy of the CDFI Fund's estimate of the burden of the collection of information; (c) ways to enhance the quality, utility, and clarity of the information to be collected; (d) ways to minimize the burden of the collection of information on respondents, including through the use of technology; and (e) estimates of operational or maintenance costs to provide information.

The CDFI Fund specifically requests comments concerning the following questions:

(1) Will the annual assessment be effective in evaluating Qualified Issuers or are there other alternatives by which Qualified Issuers could be assessed?

(2) Should Qualified Issuers have the ability to conduct the annual assessment for Eligible CDFIs, provided that they have the appropriate qualifications?

(3) Is there additional information or instruction that the CDFI Fund can provide to clarify the expectations associated with the annual assessment evaluation?

(4) What are the appropriate steps for the CDFI Fund to take in the event that the annual assessment completed by the third party vendor fails to adequately evaluate a participant's performance on the expected criteria?

Authority: 12 CFR 1808.

Dated: February 26, 2015.
Annie Donovan,
Director, Community Development Financial Institutions Fund.

[FR Doc. 2015-05057 Filed 3-4-15; 8:45 am]

BILLING CODE 4810-70-P